FEDERAL COMMUNICATIONS COMMISSION

[Report No. 2774]

Petitions for Reconsideration of Action in Rulemaking Proceeding

June 16, 2006.

Petitions for Reconsideration have been filed in the Commission's Rulemaking proceeding listed in this Public Notice and published pursuant to 47 CFR Section 1.429(e). The full text of these documents is available for viewing and copying in Room CY-B402, 445 12th Street, SW., Washington, DC or may be purchased from the Commission's copy contractor, Best Copy and Printing, Inc. (BCPI) (1-800-378-3160). Oppositions to these petitions must be filed by July 13, 2006. See Section 1.4(b)(1) of the Commission's rules (47 CFR 1.4(b)(1)). Replies to an opposition must be filed within 10 days after the time for filing oppositions has expired.

Subject: In the Matter of Junk Fax Prevention Act of 2005 (CG Docket No. 05-338); In the Matter of Rules and Regulations Implementing the Telephone Consumer Protection Act of 1991 (CG Docket No. 02-278)

Number of Petitions Filed: 2.

Marlene H. Dortch,
Secretary.

[FR Doc. 06-5858 Filed 6-27-06; 8:45 am]

BILLING CODE 6712-01-P